DEPARTMENT OF COMMERCE

National Oceanic and Atmospheric Administration

RIN 0648-XV84

Mid-Atlantic Fishery Management Council; Public Meeting

AGENCY: National Marine Fisheries Service (NMFS), National Oceanic and Atmospheric Administration (NOAA), Commerce.

ACTION: Notice of a public meeting.

SUMMARY: The Mid-Atlantic Fishery Management Council's (MAFMC) Scientific and Statistical Committee (SSC) will hold a public meeting.

DATES: The meeting will be held Tuesday, May 11, 2010, from 9 a.m. to 5 p.m. and Wednesday, May12, 2010, from 8:30 a.m. to 5 p.m.

ADDRESSES: The meeting will be held at the Sheraton Four Points, 7032 Elm Road, Baltimore, MD 21240; telephone: (410) 859-3300.

Council address: Mid-Atlantic Fishery Management Council, 800 N. State Street, Suite 201, Dover, DE 19901; telephone: (302) 674-2331.

FOR FURTHER INFORMATION CONTACT: Daniel T. Furlong, Executive Director, Mid-Atlantic Fishery Management Council, 800 N. State Street, Suite 201, Dover, DE 19901; telephone: (302) 526-5255.

SUPPLEMENTARY INFORMATION: The terms of reference for this meeting include:

(1) Review stock assessment information and specify overfishing level and acceptable biological (ABC) for Atlantic mackerel and butterfish for 2011; review and comment on proposed 2011 quota specifications and management measures for Atlantic mackerel, butterfish, Loligo and Illex; and (2) review stock assessment information and specify overfishing level and ABC for Atlantic surfclams and ocean quahogs for 2011-13. In addition, the SSC will discuss the status of the management strategy evaluation study being conducted by the University of Maryland.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: April 14, 2010.
Tracey L. Thompson,
Acting Director, Office of Sustainable Fisheries, National Marine Fisheries Service.

[FR Doc. 2010-9001 Filed 4-19-10; 8:45 am]

BILLING CODE 3510-22-S